DEPARTMENT OF COMMERCE

Economic Development Administration

Agency Information Collection Activities; Submission to the Office of Management and Budget (OMB) for Review and Approval; Comment Request; Property Management Requirements

AGENCY: Economic Development Administration, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 6, 2021.

ADDRESSES: Interested persons are invited to submit written comments by mail to Sydney Milner, Program Analyst, Performance, Research and National Technical Assistance Division, Economic Development Administration, U.S. Department of Commerce, via email at smilner@eda.gov. You may also submit comments to PRAcomments@doc.gov. Please reference OMB Control Number 0610-0103 in the subject line of your comments. Do not submit Confidential Business Information or otherwise sensitive or protected information.

FOR FURTHER INFORMATION CONTACT: Requests for additional information or specific questions related to collection activities should be directed to Sydney Milner, Program Analyst, Performance, Research and National Technical Assistance Division, Economic Development Administration, U.S. Department of Commerce, via email at smilner@eda.gov or via phone at (202) 365-4040.

SUPPLEMENTARY INFORMATION:

I. Abstract

The Economic Development Administration (EDA) leads the Federal economic development agenda by promoting innovation and competitiveness, preparing American regions for growth and success in the worldwide economy. Guided by the basic principle that sustainable economic development should be locally-driven, EDA works directly with communities and regions to help them build the capacity for economic development based on local business conditions and needs. The Public Works and Economic Development Act of 1965 (PWEDA) (42 U.S.C. 3121 et seq.) is EDA's organic authority and is the primary legal authority under which EDA awards financial assistance. Under PWEDA, EDA provides financial assistance to both rural and urban distressed communities by fostering entrepreneurship, innovation, and productivity through investments in infrastructure development, capacity building, and business development to attract private capital investments and new and better jobs to regions experiencing economic distress. Further information on EDA programs and financial assistance opportunities can be found at www.eda.gov.

To effectively administer and monitor its economic development assistance programs, EDA collects certain information from applications for, and recipients of, EDA investment assistance. First, this collection of information allows EDA to determine whether an incidental use of property acquired or improved with EDA investment assistance is appropriate. Pursuant to 13 CFR 314.3(g), an incidental use of property: (1) Does not interfere with the scope of the project or the economic purpose for which the investment was made; (2) provided that the recipient is in compliance with applicable law and the terms and conditions of the investment assistance, and (3) the incidental use of the property will not violate the terms and conditions of the investment assistance or otherwise adversely affect the economic useful life of the property. A recipient must request in writing EDA's approval to undertake an incidental use of property acquired or improved with EDA's investment assistance pursuant to.

Second, this collection of information allows EDA to determine whether to release its real property or tangible personal property interests. If a recipient wishes for EDA to release its real property or tangible personal property interests before the expiration of the property's estimated useful life, the recipient must submit a written request to EDA. Pursuant to 13 CFR 314.10(c), the recipient must disclose to EDA the intended future use of the property for which the release is requested.

This information collection is scheduled to expire on November 30, 2021. EDA is not proposing any changes to the current information collection request.

II. Method of Collection

Property management requests are collected primarily through electronic submissions but may also be collected through paper submission.

III. Data

OMB Control Number: 0610-0103.

Form Number(s): None.

Type of Review: Regular submission; Extension of a currently approved collection.

Affected Public: Current recipients of EDA awards, including: (1) Cities or other political subdivisions of a state, including a special purpose unit of state or local government engaged in economic or infrastructure development activities; (2) states; (3) institutions of higher education; (4) public or private non-profit organizations or associations; (5) District Organizations; and (6) Indian Tribes.

Estimated Number of Respondents: 150 (54 incidental use requests and 96 requests to release EDA's property interest each year).

Estimated Time per Response: Each request takes an estimated 45 minutes initially, with an estimated two hours to provide additional documentation or respond to follow-up questions, if necessary.

Estimated Total Annual Burden Hours: 412.50.

Type of request | Number of requests (estimated) | Hours per request (estimated) | Total estimated burden hours
Incidental use request | 54 | 2.75 | 148.5
Release request | 96 | 2.75 | 264
Total |  |  | 412.5

Estimated Total Annual Cost to Public: $ 24,003. (cost assumes application of U.S. Bureau of Labor Statistics first quarter 2021 mean hourly employer costs for employee compensation for professional and related occupations of $58.19).

Respondent's Obligation: Mandatory.

Legal Authority: The Public Works and Economic Development Act of 1965 (42 U.S.C. 3121 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-21776 Filed 10-5-21; 8:45 am]

BILLING CODE 3510-34-P